DEPARTMENT OF DEFENSE

Department of the Navy

Public Meeting on the Draft Environmental Impact Statement for Basing the Advanced Amphibious Assault Vehicle at Marine Corps Base Camp Pendleton, CA

AGENCY: Department of the Navy, DOD.

ACTION: Notice of public meeting.

SUMMARY: Pursuant to the National Environmental Policy Act as implemented by the Council on Environmental Quality Regulations (40 CFR parts 1500-1508), the Department of the Navy has prepared a Draft Environmental Impact Statement (DEIS) for basing the advanced amphibious assault vehicle at Marine Corps Base (MCB) Camp Pendleton, CA. Two public meetings will be held in order to collect public comments. These meetings are for interested persons to ask questions and provide comments on the DEIS. Each meeting will be conducted in an open house format and participants may attend some or all of the meeting(s).

DATES AND ADDRESSES: The first public meeting will be held on Monday, November 18, 2002, from 6 p.m. to 9 p.m. in the City of San Clemente Auditorium, 100 N. Calle Seville, San Clemente, CA. The second public meeting will be held on Wednesday, November 20, 2002, from 6 p.m. to 9 p.m. in the City of Oceanside Community Room, 330 North Coast Highway, Oceanside, CA. All written comments regarding the DEIS should be received by December 3, 2002, and directed to Commander, Southwest Division, Naval Facilities Engineering Command, Code 5CPR.15 (Attn: Ms. Lisa Seneca), 937 North Harbor Drive, San Diego, CA 92132.

FOR FURTHER INFORMATION CONTACT: Ms. Lisa Seneca, telephone (619) 532-4744, fax (619) 532-4160.

SUPPLEMENTARY INFORMATION: The U.S. Marine Corps is developing the advanced amphibious assault vehicle (AAAV) to replace the amphibious assault vehicle (AAV) as its primary combat vehicle for transporting troops on land, at sea, and from ship to shore. The AAAV is designed to satisfy many operational requirements to provide increased capabilities compared to the AAV and seamlessly link maneuver on ships and maneuver ashore.

The DEIS analyzes the potential environmental impacts associated with the proposed action, which involves the replacement of the AAV with the AAAV at MCB Camp Pendleton, the demolition, construction and modification of facilities at MCB Camp Pendleton to support the AAAV, and conducting AAAV training exercises at San Clemente Island.

The DEIS has been distributed to various Federal, state and local agencies, elected officials, special interest groups and individuals. The DEIS is available for public review at the following libraries:

• Carlsbad City Library, 1250 Carlsbad Village Dr, Carlsbad, CA.

• La Costa Branch Library, 6949 El Camino Real, Suite 200, Carlsbad, CA.

• Del Mar Branch Library, 1309 Camino Del Mar, Del Mar, CA.

• Imperial Beach Branch Library, 819 Imperial Beach Blvd, Imperial Beach, CA.

• Oceanside Public Library, 330 North Coast Highway, Oceanside, CA.

• Ocean Beach Branch Library, 4801 Santa Monica Ave, San Diego, CA.

• East San Diego Branch Library, 4089 Fairmount Ave, San Diego, CA.

• San Diego Central Library, 820 East St, San Diego, CA.

Dated: October 17, 2002.
R.E. Vincent II,
Lieutenant Commander, Judge Advocate General's Corps, U.S. Navy, Federal Register Liaison Officer.

[FR Doc. 02-26908 Filed 10-22-02; 8:45 am]

BILLING CODE 3810-FF-P